DEPARTMENT OF ENERGY

Federal Energy Regulatory Commission

[Docket No. CP09-27-000]

Southern Natural Gas Company; Notice of Intent To Prepare an Environmental Assessment for the Proposed Southern Natural Gas 2008 Abandonment and Modification Project and Request for Comments on Environmental Issues

December 31, 2008.

The staff of the Federal Energy Regulatory Commission (FERC or Commission) will prepare an environmental assessment (EA) that will discuss the potential environmental impacts of Southern Natural Gas Company's (Southern) 2008 Abandonment and Replacement Project involving the in-place abandonment of approximately 97 miles of pipeline in Mississippi and Alabama. The pipeline, which is part of Southern's North Main Loop Line, consists of 18-inch-diameter to 24-inch-diameter pipe, would be abandoned in six segments. In addition, Southern proposes to abandon three compressor units at the Onward Compressor Station in Sharkey County, Mississippi. The EA will be used by the Commission in its decision-making process to determine whether the project is in the public convenience and necessity.

This notice announces the opening of the scoping process the Commission will use to gather input from the public and interested agencies on the project. Your input will help determine which issues need to be evaluated in the EA. Please note that the scoping period will close on January 30, 2009. Details on how to submit comments are provided in the “Public Participation” section of this notice.

This notice is being sent to affected landowners; federal, state, and local government representatives and agencies; elected officials; Native American tribes; other interested parties; and local libraries and newspapers. State and local government representatives are asked to notify their constituents of this proposed project and to encourage them to comment on their areas of concern.

A fact sheet prepared by the FERC entitled “An Interstate Natural Gas Facility On My Land? What Do I Need To Know?” addresses a number of typically asked questions and how to participate in the Commission's proceedings. It is available for viewing on the FERC Internet Web site (http://www.ferc.gov).

Summary of the Proposed Project

The six pipeline segments Southern proposes to abandon are located in Sharkey, Yazoo, Winston, Noxubee, and Lowndes Counties, Mississippi and Pickens and Tuscaloosa Counties, Alabama. These pipeline segments were installed using a mechanical coupling technology in the late 1930s and early 1940s. The pipeline, consisting of 18- to 24-inch-diameter pipe, would be cut, cleaned, sealed, and abandoned in place. In addition, three compressor units are proposed for abandonment at the Onward Compressor Station in Sharkey County. The project also includes the removal, installation, and modification of various ancillary facilities associated with the pipeline segments to be abandoned. Along the pipeline right-of-way, 46 work sites would be utilized for the abandonment and additional modifications.

All pipeline abandonment activities would be conducted within the existing right-of-way and compressor station areas. No new access roads would be required to facilitate the abandonment of the pipeline, compressor units, or ancillary facilities.

A map showing the general location of the proposed project is included as appendix 1.¹

¹ The appendices referenced in this notice are not being printed in the Federal Register. Copies of all appendices are available on the Commission's Web site at the “eLibrary” link or from the Commission's Public Reference Room, 888 First Street NE., Washington, DC 20426, or by calling (202) 502-8371. For instructions on connecting to eLibrary, refer to the “Additional Information” section of this notice. Copies of the appendices were sent to all those receiving this notice in the mail. Requests for detailed maps of the proposed facilities should be made directly to Southern.

The EA Process

We ² are preparing this EA to comply with the National Environmental Policy Act (NEPA) which requires the Commission to take into account the environmental impact that could result if it authorizes Southern's proposal. By this notice, we are also asking federal, state, and local agencies with jurisdiction and/or special expertise with respect to environmental issues to formally cooperate with us in the preparation of the EA. Agencies that would like to request cooperating status should follow the instructions for filing comments provided below.

² “We,” “us,” and “our” refer to the environmental staff of the FERC's Office of Energy Projects.

NEPA also requires the FERC to discover and address concerns the public may have about proposals. This process is referred to as “scoping.” The main goal of the scoping process is to focus the analysis in the EA on the important environmental issues. By this Notice, we are requesting public comments on the scope of the issues to be addressed in the EA. All comments received will be considered during the preparation of the EA.

Our independent analysis of the issues will be presented in the EA. Depending on the comments received during the scoping process, the EA may be published and mailed to federal, state, and local agencies, public interest groups, interested individuals, affected landowners, local libraries and newspapers, and the Commission's official service list for this proceeding. A comment period will be allotted for review if the EA is published. We will consider all comments on the EA before we make our recommendations to the Commission.

To ensure your comments are received and considered, please carefully follow the instructions in the “Public Participation” section below.

Public Participation

You can make a difference by providing us with your specific comments or concerns about Southern's 2008 Abandonment and Replacement Project. Your comments should focus on the potential environmental effects of the proposal, reasonable alternatives, and measures to avoid or lessen the environmental impacts. The more specific your comments, the more useful they will be. To ensure that your comments are timely and properly recorded, please send in your comments so that they will be received in Washington, DC on or before January 30, 2009.

For your convenience, there are three methods which you can use to submit your comments to the Commission. In all instances please reference the project docket number with your submission. The docket number can be found on the front of this notice. The Commission encourages electronic filing of comments and has dedicated eFiling expert staff available to assist you at (202) 502-8258 or eFiling@ferc.gov.

(1) You may file your comments electronically by using the Quick Comment feature, which is located on the Commission's Internet Web site at http://www.ferc.gov under the link to Documents and Filings. A Quick Comment is an easy method for interested persons to submit text-only comments on a project.

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing.”

(3) You may file your comments via mail by sending an original and two copies of your letter to: Kimberly D. Bose, Secretary, Federal Energy Regulatory Commission, 888 First Street, NE., Room 1A, Washington, DC 20426.

Label one copy of the comments for the attention of Gas Branch 1, PJ-11.1.

Becoming an Intervenor

In addition to involvement in the EA scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding.

If you want to become an intervenor, you must file a motion to intervene according to Rule 214 of the Commission's Rules of Practice and Procedure (18 CFR 385.214).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

As described above, we may publish and distribute the EA for public review and comment. If you are interested in receiving an EA, please return the Environmental Mailing List Form (appendix 2). If you do not return the Environmental Mailing List Form or comment on the project, you will be taken off the mailing list. All individuals who provide comments will remain on our environmental mailing list for this project.

Additional Information

Additional information about the project is available from the Commission's Office of External Affairs, at 1-866-208-FERC or on the FERC Internet Website (http://www.ferc.gov) using the “eLibrary” link. Click on the eLibrary link, then on “General Search” and enter the docket number excluding the last three digits (i.e., CP09-27) in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries and direct links to the documents. Go to http://www.ferc.gov/esubscribenow.htm.

Finally, any public meetings or site visits scheduled for this project will be posted on the Commission's calendar at http://www.ferc.gov/EventCalendar/EventsList.aspx along with other related information. You can also request additional information by calling Southern at (205) 325-7696.

Kimberly D. Bose,
Secretary.

[FR Doc. E9-50 Filed 1-6-09; 8:45 am]

BILLING CODE 6717-01-P